DEPARTMENT OF HOMELAND SECURITY

Federal Emergency Management Agency

[Docket ID FEMA-2010-0034]

Recovery Fact Sheet RP9580.205, Public Assistance Funding to Public Housing Facilities

AGENCY: Federal Emergency Management Agency, DHS.

ACTION: Notice of availability.

SUMMARY: In this document the Federal Emergency Management Agency (FEMA) is providing notice of the availability of the final Recovery Fact Sheet RP9580.205, Public Assistance Funding to Public Housing Facilities.

DATES: The fact sheet is effective May 19, 2010.

ADDRESSES: The fact sheet is available online at http://www.regulations.gov under docket ID FEMA-2010-0034 and on FEMA's Web site at http://www.fema.gov. You may also view a hard copy of the fact sheet at the Office of Chief Counsel, Federal Emergency Management Agency, Room 835, 500 C Street, SW., Washington, DC 20472-3100.

FOR FURTHER INFORMATION CONTACT: Elissa Fontenot, Federal Emergency Management Agency, 500 C Street, SW., Washington, DC 20472, 202-646-4014, or via e-mail at Elissa.Fontenot@dhs.gov.

SUPPLEMENTARY INFORMATION: The fact sheet describes assistance FEMA may provide to publicly subsidized housing facilities under the Public Assistance Program. FEMA may provide funding to public housing authorities for their emergency work costs as well as the cost to repair, replace or restore disaster-damaged public housing facilities in Presidentially-declared major disasters and emergencies declared on or after October 1, 2008.

Authority: 42 U.S.C. 5121-5207; 44 CFR part 206.

David J. Kaufman,
Director, Office of Policy and Program Analysis, Federal Emergency Management Agency.

[FR Doc. 2010-14290 Filed 6-14-10; 8:45 am]

BILLING CODE 9111-23-P